DEPARTMENT OF AGRICULTURE

National Institute of Food and Agriculture

Notice of Intent To Extend and Revise a Currently Approved Information Collection

AGENCY: National Institute of Food and Agriculture.

ACTION: Approval of notice and request for comments.

SUMMARY: In accordance with the Paperwork Reduction Act of 1995 and Office of Management and Budget (OMB) regulations, this notice announces the National Institute of Food and Agriculture's (NIFA) intention to extend and revise, a currently approved information collection entitled, “Reporting Requirements for State Plans of Work for Agricultural Research and Extension Formula Funds.” NIFA is also proposing to modify the collection in response to audit findings of the USDA Office of Inspector General.

DATES: Written comments on this notice must be received by January 28, 2022 to be assured of consideration. Comments received after that date will be considered to the extent practicable.

ADDRESSES: Written comments may be submitted by any of the following methods: Email: robert.martin3@usda.gov. Mail: Office of Information Technology (OIT), NIFA, USDA, STOP 2216, 1400 Independence Avenue SW, Washington, DC 20250-2216. You may also submit comments, through the Federal eRulemaking Portal: www.regulations.gov. Follow the instructions for submitting comments.

FOR FURTHER INFORMATION CONTACT: Robert Martin, Records Officer; email: robert.martin3@usda.gov; phone: 202-445-5388.

SUPPLEMENTARY INFORMATION: Title: Reporting Requirements for State Plans of Work for Agricultural Research and Extension Capacity Grants.

OMB Number: 0524-0036.

Expiration Date of Current Approval: September 30, 2022.

Type of Request: Notice of intent to extend, for one year, a currently approved information collection. The burden for this collection remains unchanged.

The agency is building a new reporting system, the “NIFA Reporting System,” (NRS) that will consume the “Reporting Requirements for Research, Education, and Extension project reporting tool (REEport)” and this collection upon completion. At the appropriate time, NIFA will request approval for a new information collection to include all competitive and capacity programs. In addition, NIFA will work with university partners in extension and research to review and identify measures to further streamline the submission, reporting under, and implementation of plan of work requirements under USDA extension and research capacity programs, as required by section 7505 of the Food, Conservation, and Energy Act of 2008, Public Law 110-246 (7 U.S.C. 7614b). The adoption of new technology and elimination of data fields that are not required by law or are not used by NIFA for informational purposes, will reduce the burden of collecting and reporting information to our grantees. At that time, we will be better able to estimate the actual burden.

In addition to the Plan of Work requirements described below, NIFA seeks to collect two digital identifiers to assist with collecting information on publications that result from NIFA-funded projects. The first digital identifier is the Digital Object Identifier (DOI) assigned to journal articles by publishers. The DOI will allow NIFA to eliminate the manual entry of publication data by grantees. NIFA also seeks to collect the Open Researcher and Contributor ID (ORCID). The ORCID is a persistent digital identifier, available to individuals at no cost. Increasingly, researchers are placing their ORCIDs in publication metadata. Together, the DOI and ORCID will help NIFA improve the robustness of its publication data and be better positioned to demonstrate the value of its investments.

NIFA also seeks to collect information from its grantees in support of its key performance indicator (KPI), Workforce Development. NIFA, in collaboration with the Office of Chief Scientist, defines the KPI as the number of students trained as part of a NIFA-funded project or program. This data is currently collected from a segment of NIFA's programs. The Agency seeks to expand this to all relevant programs as they are brought over to the NIFA Reporting System.

Abstract: The purpose of this collection of information is to continue implementing the requirement that a plan of work must be submitted by each institution and approved by the National Institute of Food and Agriculture (NIFA) before formula funds may be provided to the 1862 and 1890 land-grant institutions.

The formula funds are authorized under the Hatch Act of 1887, as amended (7 U.S.C. 361a-i) for agricultural research activities at the 1862 land-grant institutions, under the Smith-Lever Act (7 U.S.C. 341-349) for the extension activities at the 1862 land-grant institutions, and under sections 1444 and 1445 of AREERA (7 U.S.C. 3221-3222) for research and extension activities at the 1890 land-grant institutions. The requirement for the submission of a plan of work may be found in 7 U.S.C. 344(c) for the Smith-Lever Act, in 7 U.S.C. 361g(d) for the Hatch Act, and in 7 U.S.C. 3221(d)(3) and 3222(c)(2) respectively for Research and Extension at the 1890 Institutions. The plan of work must address critical agricultural issues in the State and describe the programs and projects targeted to address these issues using the NIFA formula funds. The plan of work also must describe the institution's multistate activities and include their integrated research and extension activities.

This collection of information also includes the reporting requirements of section 102(c) of AREERA (7 U.S.C. 7612(c)) for the 1862 and 1890 land-grant institutions. This section requires the 1862, 1890, and 1994 land-grant institutions, and Hispanic-serving agricultural colleges and universities receiving agricultural research, education, and extension formula funds from NIFA of the Department of Agriculture (USDA) to establish and implement processes for obtaining input from persons who conduct or use agricultural research, extension, or education concerning the use of such funds.

Section 102(c) further requires that the Secretary of Agriculture promulgate regulations that prescribe what the institutions must do to meet this requirement and the consequences of not complying with this requirement. The Stakeholder Input Requirements for Recipients of Agricultural Research, Education, and Extension Formula Funds (7 CFR 3418) final rule (65 FR 5998, Feb. 8, 2000) applies not only to the land-grant institutions and Hispanic-serving agricultural college and universities receiving formula funds but also to the veterinary and forestry schools that are not land-grant institutions but receive forestry research funds under the McIntire-Stennis Cooperative Forestry Research Act of 1962 (16 U.S.C. 582a1-7) and animal health and disease research funds under section 1433 of NARETPA (7 U.S.C. 3195(a)).

Failure to comply with the requirements of this rule may result in the withholding of a recipient institution's formula funds and redistribution of its share of formula funds to other eligible institutions. The institutions are required to annually report to NIFA: (1) The actions taken to seek stakeholder input to encourage their participation; (2) a brief statement of the process used by the recipient institution to identify individuals and groups who are stakeholders and to collect input from them; and (3) a statement of how collected input was considered. There is no legislatively prescribed form or format for this reporting requirement. However, the 1862 and 1890 land- grant institutions and Hispanic-serving agricultural colleges and universities are required to report on their Stakeholder Input Process annually as part of their Annual Report of Accomplishments and Results.

Section 103(e) of AREERA (7 U.S.C. 7613(e)) requires that the 1862, 1890, and 1994 land-grant institutions, as well as Hispanic-serving agricultural colleges and universities, establish a merit review process to obtain agricultural research and extension funds. Section 104 of AREERA (7 U.S.C. 361c(h)) further stipulated that for research conducted pursuant to the Hatch Act, a scientific peer review process be established for research programs funded under section 3(c)(3) of the Hatch Act (commonly referred to as Hatch Multistate Research Funds), which should be used in lieu of the merit review requirement in section 7613(e).

I. Initial 5-Year Plan of Work

Estimate of Burden: The Initial 5-Year Plan of Work was submitted for the FY 2020-2024 Plan of Work in 2019. Thus, this reporting burden has been satisfied and will no longer be collected. Consequently, the total reporting and record keeping requirements for the submission of the “Initial 5- Year Plan of Work” is estimated to average 0 hours per response.

The revised Plan of Work includes six components: “Critical Issues,” Extension Program and Research project Initiations in the NRS platform,” “Stakeholder Input Process,” “Merit Review Process,” “Multistate Activities,” and “Integrated Activities.” The total reporting and record keeping requirements for the initial submission was estimated to average 64 hours per response.

Estimated Number of Respondents: 75.

Estimated Number of Responses: 150.

Estimated Total Annual Burden on Respondents: 9,600 hours.

Frequency of Responses: Annually.

II. Annual Update to 5-Year Plan of Work

Estimate of the Burden: The total reporting and record keeping requirements for the submission of the “Annual Update to the 5-Year Plan of Work” is estimated to average 64 hours per response. There are five components of this “5-Year Plan of Work”: “Planned Programs,” “Stakeholder Input Process,” “Program Review Process,” “Multi state Activities,” and “Integrated Activities.”

Estimated Number of Respondents: 75.

Estimated Number of Responses: 150.

Estimated Total Annual Burden on Respondents: 9,600 hours.

Frequency of Responses: Annually.

III. Annual Report of Accomplishments and Results

The Annual Report of Accomplishments and Results will contain summaries of projects and programs for which key activities have produced outcomes. Projects and programs are organized by Critical Issue. Project summaries include four components: The issue and its significance; key activities undertaken to achieve the goals and objectives; changes in knowledge, behavior, or condition resulting from the project's activities; and who benefited and how.

Estimate of the Burden: The total annual reporting and record keeping requirements of the “Annual Report of Accomplishments and Results” is estimated to average 260 hours per response.

Estimated Number of Respondents: 75.

Estimated Number of Responses: 150.

Estimated Total Annual Burden on Respondents: 39,000 hours.

Frequency of Responses: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments will become a matter of public record.

Done at Washington, DC, this day of November 18, 2021.
Carrie L. Castille,
Director, National Institute of Food and Agriculture, U.S. Department of Agriculture.

[FR Doc. 2021-25900 Filed 11-26-21; 8:45 am]

BILLING CODE P